DEPARTMENT OF HOMELAND SECURITY

Federal Emergency Management Agency

[Docket ID FEMA-2013-0002; Internal Agency Docket No. FEMA-B-1308]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama: Jefferson | City of Bessemer (12-04-6774P) | The Honorable Kenneth E. Gulley, Mayor, City of Bessemer, 1800 3rd Avenue North, Bessemer, AL 35020 | City Hall, Engineering Department, 1800 3rd Avenue North, Bessemer, AL 35020 | http://www.bakeraecom.com/index.php/alabama/jefferson-3/ | May 23, 2013 | 010115
Arizona: Cochise | City of Sierra Vista (12-09-2774P) | The Honorable Rick Mueller, Mayor, City of Sierra Vista, 1011 North Coronado Drive, Sierra Vista, AZ 85635 | Planning and Zoning Department, 1011 North Coronado Drive, Sierra Vista, AZ 85635 | http://www.r9map.org/Docs/12-09-2774P-040017-102IAC.pdf | May 20, 2013 | 040017
California:
Riverside | City of Murrieta (12-09-0685P) | The Honorable Rick Gibbs, Mayor, City of Murrieta, 24601 Jefferson Avenue, Murrieta, CA 92562 | Public Works and Engineering Department, 26442 Beckman County, Murrieta, CA 92562 | http://www.r9map.org/Docs/12-09-0685P-060751-102IAC.pdf | May 24, 2013 | 060751
Riverside | City of Temecula (12-09-0685P) | The Honorable Michael S. Naggar, Mayor, City of Temecula, 41000 Main Street, Temecula, CA 92590 | City Hall, 43200 Business Park Drive, Temecula, CA 92590 | http://www.r9map.org/Docs/12-09-0685P-060742-102IAC.pdf | May 24, 2013 | 060742
Santa Clara | City of Milpitas (13-09-0070P) | The Honorable Jose Esteves, Mayor, City of Milpitas, 455 East Calaveras Boulevard, Milpitas, CA 95035 | Engineering Division, 455 East Calaveras Boulevard, Milpitas, CA 95035 | http://www.r9map.org/Docs/13-09-0070P-060344-102IAC.pdf | May 24, 2013 | 060344
Colorado:
Adams | City of Commerce City (13-08-0283P) | The Honorable Sean Ford, Sr., Mayor, City of Commerce City, 7887 East 60th Avenue, Commerce City, CO 80022 | Municipal Services Center, 8602 Rosemary Street, Commerce City, CO 80022 | http://www.bakeraecom.com/index.php/colorado/adams/ | June 5, 2013 | 080006
Adams | Unincorporated areas of Adams County (13-08-0283P) | The Honorable Eva J. Henry, Chair, Adams County Board of Commissioners, 4430 South Adams County Parkway, Suite C5000A, Brighton, CO 80601 | Adams County Public Works Department, 4430 South Adams County Parkway, Suite W2123, Brighton, CO 80601 | http://www.bakeraecom.com/index.php/colorado/adams/ | June 5, 2013 | 080001
Weld | Unincorporated areas of Weld County, (12-08-0745P) | The Honorable Sean Conway, Chairman, Weld County Board of Commissioners, P.O. Box 758, Greeley, CO 80632 | Weld County Public Works Department, 1111 H Street, Greeley, CO 80632 | http://www.bakeraecom.com/index.php/colorado/weld/ | May 3, 2013 | 080266
Florida:
Alachua | City of Gainesville, (12-04-7870P) | The Honorable Craig Lowe, Mayor, City of Gainesville, 200 East University Avenue, Gainesville, FL 32601 | Public Works Department, 306 Northeast 6th Avenue, Gainesville, FL 32601 | http://www.bakeraecom.com/index.php/florida/alachua/ | May 24, 2013 | 125107
Orange | City of Orlando, (13-04-0278P) | The Honorable Buddy Dyer, Mayor, City of Orlando, P.O. Box 4990, Orlando, FL 32808 | One City Commons, 400 South Orange Avenue, 8th Floor, Orlando, FL 32839 | http://www.bakeraecom.com/index.php/florida/orange-2/ | May 24, 2013 | 120186
Santa Rosa | Unincorporated areas of Santa Rosa County, (13-04-0043P) | The Honorable Jim Williamson, Chairman, Santa Rosa County Board of Commissioners, 6495 Carolina Street, Suite M, Milton, FL 32570 | Santa Rosa County Development Services Department, 6051 Old Bagdad Highway, Room 202, Milton, FL 32583 | http://www.bakeraecom.com/index.php/florida/santa-rosa/ | April 4, 2013 | 120274
Georgia:
Hall | Town of Braselton, (12-04-5040P) | The Honorable Bill Orr, Mayor, Town of Braselton, P.O. Box 306, Braselton, GA 30517 | Town Hall, 4982 Highway 53, Braselton, GA 30517 | http://www.bakeraecom.com/index.php/georgia/hall/ | May 20, 2013 | 130343
Hall | Unincorporated areas of Hall County, (12-04-5040P) | The Honorable Tom Oliver, Chairman, Hall County Board of Commissioners, P.O. Drawer 1435, Gainesville, GA 30503 | Hall County Engineering Department, 300 Green Street, Gainesville, GA 30503 | http://www.bakeraecom.com/index.php/georgia/hall/ | May 20, 2013 | 130466
Iowa: Dubuque | City of Dubuque, (12-07-2232P) | The Honorable Roy D. Buol, Mayor, City of Dubuque, 50 West 13th Street, Dubuque, IA 52001 | City Hall, 50 West 13th Street, Dubuque, IA 52001 | http://www.starr-team.com/starr/LOMR/Pages/RegionVII.aspx | May 31, 2013 | 195180
South Carolina:
Anderson | Unincorporated areas of Anderson County, (11-04-7512P) | The Honorable Thomas F. Allen, Chairman, Anderson County Council, P.O. Box 8002, Anderson, SC 29622 | Anderson County Courthouse, 101 South Main Street, Anderson, SC 29624 | http://www.bakeraecom.com/index.php/southcarolina/anderson/ | May 10, 2013 | 450013
Richland | City of Columbia, (11-04-8071P) | The Honorable Steve Benjamin, Mayor, City of Columbia, 1737 Main Street, Columbia, SC 29201 | City Hall, 1737 Main Street, Columbia, SC 29021 | http://www.bakeraecom.com/index.php/southcarolina/richland/ | April 29, 2013 | 450172
Tennessee:
Cocke | City of Newport, (13-04-0214P) | The Honorable Connie Ball, Mayor, City of Newport, 300 East Main Street, Newport, TN 37821 | Planning and Zoning Department, 300 East Main Street, Newport, TN 37821 | http://www.bakeraecom.com/index.php/tennessee/cocke/ | May 31, 2013 | 475440
Tennessee:
Cocke | Unincorporated areas of Cocke County, (13-04-0214P) | The Honorable Vaughn Moore, Mayor, Cocke County, 360 East Main Street, Newport, TN 37821 | Cocke County Property Assessor's Office, 360 East Main Street, Newport, TN 37821 | http://www.bakeraecom.com/index.php/tennessee/cocke/ | May 31, 2013 | 470033

(Catalog of Federal Domestic Assistance No. 97.022, “Flood Insurance.”)

Roy E. Wright,
Deputy Associate Administrator for Mitigation, Department of Homeland Security, Federal Emergency Management Agency.

[FR Doc. 2013-08042 Filed 4-5-13; 8:45 am]

BILLING CODE 9110-12-P